DEPARTMENT OF ENERGY

Federal Energy Regulatory Commission

Combined Notice of Filings #2

Take notice that the Commission received the following electric corporate filings:

Docket Numbers: EC16-74-000.

Applicants: Black Hills Colorado IPP, LLC.

Description: Application for Authorization under Section 203 of the Federal Power Act of Black Hills Colorado IPP, LLC.

Filed Date: 2/17/16.

Accession Number: 20160217-5171.

Comments Due: 5 p.m. ET 3/9/16.

Take notice that the Commission received the following electric rate filings:

Docket Numbers: ER10-1350-006.

Applicants: Entergy Services, Inc.

Description: Entergy Services, Inc. submits Compliance Filing Pursuant to Opinion No. 545.

Filed Date: 2/16/16.

Accession Number: 20160216-5413.

Comments Due: 5 p.m. ET 3/8/16.

Docket Numbers: ER16-780-001.

Applicants: Southwest Power Pool, Inc.

Description: Tariff Amendment: 1166R27 Oklahoma Municipal Power Authority NITSA and NOA to be effective 1/1/2016.

Filed Date: 2/17/16.

Accession Number: 20160217-5160.

Comments Due: 5 p.m. ET 3/9/16.

Docket Numbers: ER16-955-000.

Applicants: Red Horse Wind 2, LLC.

Description: Baseline eTariff Filing: Shared Facilities Agreement to be effective 4/4/2016.

Filed Date: 2/17/16.

Accession Number: 20160217-5125.

Comments Due: 5 p.m. ET 3/9/16.

Docket Numbers: ER16-956-000.

Applicants: Southern California Edison Company.

Description: § 205(d) Rate Filing: LGIA Aurora Solar LLC Sorrel I Solar Farm Project to be effective 2/18/2016.

Filed Date: 2/17/16.

Accession Number: 20160217-5126.

Comments Due: 5 p.m. ET 3/9/16.

Docket Numbers: ER16-957-000.

Applicants: Southern California Edison Company.

Description: § 205(d) Rate Filing: LGIA NextEra Energy Resources, LLC Ord Mountain Project to be effective 2/18/2016.

Filed Date: 2/17/16.

Accession Number: 20160217-5127.

Comments Due: 5 p.m. ET 3/9/16.

Docket Numbers: ER16-958-000.

Applicants: Red Horse III, LLC.

Description: § 205(d) Rate Filing: Concurrence filing to be effective 4/4/2016.

Filed Date: 2/17/16.

Accession Number: 20160217-5154.

Comments Due: 5 p.m. ET 3/9/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 17, 2016.
Nathaniel J. Davis, Sr.,
Deputy Secretary.

[FR Doc. 2016-04156 Filed 2-25-16; 8:45 am]

BILLING CODE 6717-01-P